DEPARTMENT OF TRANSPORTATION

Federal Highway Administration

Environmental Impact Statement: Brunswick and New Hanover Counties, NC

AGENCY: Federal Highway Administration (FHWA).

ACTION: Notice of intent.

SUMMARY: The FHWA is issuing this notice to advise the public that an environmental impact statement will be prepared for a proposed highway project in Brunswick and New Hanover Counties, North Carolina.

FOR FURTHER INFORMATION CONTACT: Clarence W. Coleman, PE., Operations Engineer, Federal Highway Administration, 310 New Bern Avenue, Suite 410, Raleigh, North Carolina 27601-1418, Telephone: (919) 856-4346.

SUPPLEMENTARY INFORMATION: The FHWA, in cooperation with the North Carolina Department of Transportation (NCDOT) and the North Carolina Turnpike Authority (NCTA), will prepare an environmental impact statement (EIS) on a proposal to construct a multi-lane highway facility in Brunswick and New Hanover Counties, North Carolina. Known as the Cape Fear Skyway, the proposed improvement would extend from US 17 in Brunswick County, near the community of Bishop, to US 421 in the city of Wilmington for a distance of approximately 9.5 miles. The project would include a crossing of the Cape Fear River.

The proposed highway facility is considered necessary as a means to improve regional traffic flow, enhance access to the North Carolina Ports, improve emergency service response times and facilitate emergency evacuation. Preliminary alternatives to be evaluated include (1) taking no action (2) Transportation System Management (TSM); (3) Transportation Demand Management (TDM); (4) Mass Transit; and (5) constructing a multi-lane facility on new location with full control of access. Incorporated into and studied with the various build alternatives will be design variations of grade and alignment. The EIS will address environmental, social, and economic impacts associated with the development of the proposed action.

Letters describing the proposed action and soliciting comments will be sent to appropriate Federal, State, and local agencies, and to private organizations and citizens who have previously expressed or are known to have an interest in this proposal. A series of public meetings will be held in the vicinity of the project throughout the development of the EIS. In addition, a public hearing will be held. Public notice will be given of the time and place of the meetings and hearing. The draft EIS will be available for public and agency review and comment prior to any public hearings being held.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Issued on: May 4, 2006.
Clarence W. Coleman,
Operations Engineer, Raleigh, North Carolina.

[FR Doc. 06-4367 Filed 5-10-06; 8:45 am]

BILLING CODE 4910-22-M